DEPARTMENT OF THE INTERIOR

Bureau of Reclamation

CALFED Bay-Delta Program Policy Group

AGENCY: Bureau of Reclamation, Interior.

ACTION: Notice of meeting.

SUMMARY: The CALFED Bay-Delta Program Policy Group will meet on June 14, 2001. The agenda for the Policy Group meeting will include discussions about the CALFED Bay-Delta Program's: Record of Decision Commitments and Accomplishments; Year 2 Budget; Science Program Activities; and 2001 Funded Projects. This meeting is open to the public. Interested persons may make oral statements to the CALFED Bay-Delta Program Policy Group or may file statements for consideration.

DATES: The CALFED Bay-Delta Program Policy Group meeting will be held from 9 a.m. to 5 p.m. on Thursday, June 14, 2001.

ADDRESSES: This meeting will meet at the Sacramento Convention Center, 1400 J Street, Room 204, Sacramento, CA 95814.

FOR FURTHER INFORMATION CONTACT: Rick Breitenbach, CALFED Bay-Delta Program, at (916) 657-2666. If reasonable accommodation is needed due to a disability, please contact Pauline Nevins at (916) 657-2666 or TDD (916) 653-6934 at least one week prior to the meeting.

SUPPLEMENTARY INFORMATION: The San Francisco Bay/Sacramento-San Joaquin Delta Estuary (Bay-Delta system) is a critically important part of California's natural environment and economy. In recognition of the serious problems facing the region and the complex resource management decisions that must be made, the state of California and the Federal government are working together to stabilize, protect, restore, and enhance the Bay-Delta system.

One area of Bay-Delta management includes a joint State-Federal process to develop and implement long-term solutions to problems in the Bay-Delta system related to fish and wildlife, water supply reliability, natural disasters, and water quality. This effort, the CALFED Bay-Delta Program (Program), is being carried out under the direction of the CALFED Policy Group.

Dated: May 18, 2001.
Lowell C. Ploss,
Acting Regional Director.

[FR Doc. 01-13607 Filed 5-30-01; 8:45 am]

BILLING CODE 4310-MP-M